DEPARTMENT OF HEALTH AND HUMAN SERVICES

Health Resources and Services Administration

National Vaccine Injury Compensation Program: Revised Amount of the Average Cost of a Health Insurance Policy

The Health Resources and Services Administration is publishing an updated monetary amount of the average cost of a health insurance policy as it relates to the National Vaccine Injury Compensation Program (VICP).

Pursuant to section 100.2 of the VICP's implementing regulations (42 CFR Part 100), the Secretary announces that the revised average cost of a health insurance policy under the VICP is $380.04 per month. In accordance with § 100.2, the revised amount was effective upon its delivery by the Secretary to the United States Court of Federal Claims. Such notice was delivered to the Court on October 17, 2007.

Dated: November 19, 2007.
Elizabeth M. Duke,
Administrator.

[FR Doc. E7-23090 Filed 11-26-07; 8:45 am]

BILLING CODE 4165-15-P